DEPARTMENT OF HEALTH AND HUMAN SERVICES

Centers for Disease Control and Prevention

Reorganization of the Human Resources Office

AGENCY: Centers for Disease Control and Prevention (CDC), the Department of Health and Human Services (HHS).

ACTION: Notice.

SUMMARY: CDC has modified its structure. This notice announces the reorganization of the former Human Resources Office. In addition to functional realignments and new functional entities, the Human Resources Office was retitled to the Office of Human Resources.

DATES: This reorganization was approved by the Director of CDC on June 28, 2023.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of Human Resources Office within the Office of the Chief Operating Officer, Centers for Disease Control and Prevention. Specifically, the changes are as follows:

Under Part C, Section C-B, Organization and Functions, delete and/or update functional statements for Human Resources Office (CAJQ) in their entirety and replace with the following:

Office of Human Resources (CAJQ). (1) provides leadership, policy formation, oversight, guidance, service, and advisory support and assistance to the Centers for Disease Control and Prevention (CDC) and the Agency for Toxic Substances and Disease Registry (ATSDR); (2) collaborates as appropriate, with the CDC Immediate Office of the Director (IOD), CDC components domestic and international agencies and organizations; and provides a focus for short- and long-term planning within the Office of Human Resources (OHR); (3) develops and administers human capital and human resource management policies; (4) serves as the business steward for all CDC developed human capital and human resources (HR) management systems and applications; (5) develops, maintains, and supports information systems to conduct personnel activities and provide timely information and analyses of personnel and staffing to management and employees; (6) conducts and coordinates human resources management for civil service and Commissioned Corps personnel; (7) manages the administration of fellowship programs; (8) conducts recruitment, special emphasis, staffing, position classification, position management, pay and leave administration, work-life programs, performance management, employee training and development, and employee and labor relations programs; (9) maintains personnel records and reports, and processes personnel actions and documents; (10) administers the Federal life and health insurance programs; (11) administers employee recognition and incentive awards programs; (12) furnishes advice and assistance in the processing of workers compensation claims; (13) interprets standards of conduct regulations, reviews financial disclosure reports, and offers ethics training and counseling services to employees; (14) liaise with the Department of Health and Human Services (HHS) and the Office of Personnel Management (OPM) on human resources management, policy, compliance and execution of the Human Capital Assessment and Accountability Framework; (15) conducts organizational assessments to determine compliance with human capital policies, guidance, regulatory and statutory requirements of Federal human capital and resource management programs and initiatives; (16) plans, directs, and manages training programs, monitors compliance with mandatory training requirements, and maximizes economies of scale through systematic planning and evaluation of agency-wide training initiatives to assist employees in achieving required competencies; (17) assists in the definition and analysis of training needs and develops and evaluates instructional products designed to meet those needs; (18) develops, designs, and implements a comprehensive leadership and career management program for all occupational series; (19) provides technical assistance in organizational development, career management, employee development, and training; (20) collaborates and works with partners, internally and externally, to develop workforce goals and a strategic vision for the public health workforce; (21) provides support for succession planning, forecasting services, and environmental scanning to ascertain both current and future public health workforce needs; (22) administers and maintains the customer service help desk; (23) in-processes full-time equivalents (FTEs) and non-FTEs requiring access to CDC facilities and systems; and (24) processes FTE and non-FTE separation and out-processing requests.

Office of the Director (CAJQ1). (1) provides leadership and overall direction for OHR; (2) develops overall organizational goals and objectives; (3) provides policy formation and guidance in program planning and development; (4) plans, coordinates, and develops strategic plans for OHR; (5) develops and administers human capital and human resource management policies and procedures; (6) coordinates all program reviews; (7) provides technical assistance and consultation in the development of proposed legislation, Congressional testimony, and briefing materials; (8) establishes performance metrics and coordinates quarterly reviews to ascertain status on meeting of the metrics; (9) oversees budget formulation and execution; (10) identifies relevant scanning/benchmarking on workforce and career development processes, services and products; (11) provides leadership and guidance on new developments and national trends for the public health workforce; (12) establishes and oversees policies governing human capital and human resources management, and works collaboratively within CDC components in planning, developing and implementing policies; (13) develops strategic plans for information technology and information systems required to support human capital and human resources management information requirements; (14) serves as the business steward for human capital and human resources administrative systems and advocates and supports the commitment of resources to application development; (15) coordinates HR information resource management activities with the Office of the Chief Information Office (OCIO) and related governance groups; (16) oversees the management and development of information systems and analyses of data for improved utilization of resources; (17) serves as a liaison with HHS on the utilization and deployment of centralized HHS human capital and human resource management systems and applications; (18) applies standards of conduct regulations and review financial disclosure reports; and (19) conducts demographic analysis of the workforce and publishes results in management reports.

In and Out-Processing Activity (CAJQ19). (1) serves as the central point of integration for employees, non-employees and affiliates (referred to in their entirety as “customer or staff”) requiring access to facilities and use of systems and resources; (2) coordinates with the support of CDC components to retrieve customer information needed for in- or out-processing (IOP) services; (3) provides clarity about expectations for in- or out-processing; (4) coordinates with applicable business service offices (BSOs) to assure the appropriate requirements have been obtained for the clearance of staff; (5) initiates feedback and follows-up to determine customer information is prepared for final processing; (6) provides technical assistance, guidance, and consultation regarding IOP activities to customers and stakeholders; (7) establishes, maintains, and distributes records associated with the completion of the mandatory training requirements to gain physical access to CDC facilities and information technology systems; (8) coordinates with CDC components about the issuance and activation of smart cards and automation assets; (9) processes customer separation requests; (10) administers and maintains exit interview survey data; (11) serves as a point of contact for BSOs and programs to integrate customer requirements upon exiting the physical facility; and (12) maintains customer records in accordance with applicable disposition requirements.

Transformation Activity (CAJQ1B). (1) leads and directs all transformation initiatives for OHR; (2) serves as an advocate on behalf of CDC to ensure the delivery of high-quality and timely human resources services; (3) manages the strategic planning program that provides a central focus for the management of HR programs; (4) supports the accomplishment of program goals and objectives by integrating them into long-range business plans and workforce requirements; (5) provides administrative and technical assistance needed for accomplishing the work of OHR; (6) develops and assists with the implementation of OHR improvement plans; (7) provides advice and counsel related to improvement plans and transformation initiative; (8) monitors and oversees HR management programs in alignment with the human capital service delivery model; (9) develops methods of measurement to provide accurate assessments of the program against benchmarks and established short and long-range objectives; (10) collaborates with senior managers to integrate human resources management and development tools and strategies into the overall strategic objectives for the agency; (11) coordinates and integrates strategic planning initiatives with management, HR specialists, and other analysts, providing program guidance, oversight, and evaluation; (12) leads the efforts in the origination of new HR strategic planning techniques and/or new criteria or approaches and methods for program implementation and evaluation; and (13) develops recommendations on the modifications and corrections needed to bring proposed or existing agency human resources management directives into compliance with legal or precedent guidelines.

Career Ready Program Activity (CAJQ1C). (1) facilitates career management in the development of highly competent enterprise-wide leaders and subject matter experts; (2) utilizes career community concepts for renewal, development, and sustainment of the CDC workforce; (3) establishes policy to evaluate workforce requirements and career community health; (4) manages and monitors the career communities; (5) analyzes, synthesizes and processes workforce data; (6) pursues competitive opportunities for workforce development to enhance the CDC's mission; (7) establishes metrics to monitor program(s)'s long and short-term goals, objectives and milestones and to determine program effectiveness; (8) applies cutting edge business practices and technology to enhance program(s) needed to successfully achieve goals and objectives; (9) provides advisory services on career development support programs; and (10) develops a world-class workforce at all levels built on growth, opportunity, and achievement within a culture of diversity, equity, inclusion, accessibility, and belonging,

Human Capital Workforce Solutions Office (CAJQB). (1) provides a broad array of strategic programs, workforce support, and developmental services; (2) develops and implements methodologies to measure, evaluate, and improve human capital results to ensure mission alignment; (3) assesses and evaluates the overall effectiveness and compliance of human resources programs and policies related to merit-based decision-making and compliance with laws and regulations; (4) works with OPM, HHS, and CDC Governance Boards and agency managers to carry out human capital management planning and development activities; and (5) establishes, coordinates, develops, and monitors implementation of human capital initiatives and the agency Strategic Human Capital Management Plan.

Office of the Director (CAJQB1). (1) provides leadership and overall direction for the HR Strategy and Advisory Services Office (HRSAS); (2) develops goals/objectives, and provides leadership, policy formation, oversight, and guidance in program planning and development; (3) plans, coordinates, and develops strategic plans for the HRSAS; (4) develops and administers human capital and human resource management policies and procedures; (5) coordinates all program reviews; (6) provides technical assistance and consultation to the activities within the HRSAS; (7) establishes performance metrics and coordinates reviews to ascertain status on meeting of the metrics; and (8) coordinates, develops, and monitors implementation of human capital initiatives and the agency Strategic Human Capital Management Plan.

Human Resources Strategic Business Support Activity (CAJQB3). (1) advises and facilitates strategic workforce planning and development; (2) supports OHR and CDC components officials in the development, implementation and evaluation of workforce plans, policies, and initiatives; (3) serves as a liaison with HHS and entities within and outside the agency to develop human capital management direction and strategies; (4) coordinates the development and implementation of an agency-wide strategic human capital plan; (5) identifies mission-critical occupations and associated competencies to assess potential gaps in occupations and competencies that are essential to achieving strategic goals; (6) reports on the progress in meeting human capital management improvement objectives associated with HHS-wide and government-wide human capital management improvement; (7) develops and executes a strategic hiring plan to facilitate the recruitment and retention of members of under- represented groups and for closing occupational series and/or competency gaps in the workforce; (8) provides recruitment, retention, consultation and support to customers; and (9) supports Centers, Institute, and Office (CIO)-specific, mission-critical work by managing various training programs designed to provide students, postgraduates, and university faculty with opportunities to participate in projects and assignments in support of the agency's mission.

Human Capital Strategy Activity (CAJQB5). (1) advises and facilitates short-and long-range strategic recruitment; (2) supports OHR and CIO program officials in evaluating its workforce and developing strategies to enhance diversity and inclusion practices that sources talent from all segments of society; (3) serves as a liaison with HHS and entities within and outside the agency to develop human capital management direction and strategies; (4) coordinates the development and implementation of an agency-wide strategic human capital recruitment plan; (5) develops and executes a strategic hiring plan to facilitate the recruitment and retention of members of under-represented groups and for closing occupational series and/or competency gaps in the workforce; (6) provides recruitment, retention, consultation and support to customers; (7) supports CIO-specific, mission-critical work by managing various training programs designed to provide students, postgraduates, and university faculty with opportunities to participate in projects and assignments in support of the agency's mission; and (8) develops strategies that foster inclusion, support, and advancement of a diverse CDC workforce.

CDC University Office (CAJQC). (1) provides agency-wide leadership and guidance in all functional areas related to training and career development; (2) designs, develops, implements and evaluates a comprehensive strategic human resource leadership and career training and development program for all occupational series throughout CDC; (3) develops and implements training strategies and activities that contribute to the agency's mission, goals and objectives; (4) maximizes economies of scale through systematic planning, administration, delivery, and evaluation of agency-wide training initiatives to assist CDC employees in achieving required competencies; (5) develops retraining activities for CDC managers/employees affected by organizational changes (e.g. major reorganizations, outsourcing initiatives, etc.); (6) maintains employee training records; (7) develops and validates occupational and functional competencies and develops related training plans and career maps; (8) develops and administers professional development programs; (9) administers and monitors the Training and Learning Management System for compliance with the Government Employees Training Act; (10) conducts training needs assessment of employees, provides analysis and data to correlate individual training with strategic plans; (11) develops and maintains assessment tools to identify core competency requirements for each occupational series throughout the agency; (12) provides consultation, guidance, and technical assistance to managers and employees in organizational development, career management, employee development, and training; (13) develops and delivers education and training programs to meet the identified needs of the workforce; (14) promotes, develops, and implements training needs assessment methodology to establish priorities for training interventions; (15) collaborates, as appropriate, with agencies and organizations; and (16) develops and implements policies related to employee training.

Office of the Director (CAJQC1). (1) provides assistance with travel orders and conference requests; (2) manages in processing, out processing and personnel actions; (3) liaises with the Enterprise Integration and Tiers Management Office and the Office of Strategic Business Initiatives regarding policy development/revision, manage implementation of policy at CDC University (CDCU), consult with CIOs regarding policy tracking/reporting policy compliance; (4) manages website/liaise with IT group; (5) develops/revises standard operating procedures, job aids, and manages mandatory training processes; (6) manages budget, distribution, monitoring, staffing/workforce plans, physical space planning/management, equipment/other resources; (7) develops and communicates vision/mission, strategic plans, and goals/priorities; (8) sets office-wide processes and guidelines (telework, workflow, approval chains); (9) monitors work processes and products; and (10) establishes key performance indicators/metrics, monitoring/analyzing/interpreting/reporting activity's performance data.

Developmental Assessment, Design, and Evaluation Activity (CAJQC2). (1) develops and validates competency models; (2) develops and validates career paths for all competency models; (3) advises CDC components and individuals on use of electronic individual development plans; (4) designs, administers, scores/analyzes, and interprets/reports competency assessments for CDC components, individuals, and enterprise-wide; (5) advises CDC components and individuals on best practices for assessing/identifying competency gaps/strengths and training needs; (6) designs, implements, scores/analyzes and interprets/reports developmental program evaluation methodologies within CDCU; (7) advises CDC components on the design and implementation of developmental programs; (8) advises CDC components on the design and implementation of developmental program evaluation; and (9) collects, analyzes and interprets/reports of organizational-level data, certification eligibility/compliance, quarterly/annual report).

Training Administration Activity (CAJQC3). (1) manages room reservation/specification details (for CDCU and CDC components), visitor access, room setup, room signs, makes/posts schedules, receives/manages/distributes training materials; (2) processes training orders through the Vendor Supplied Training System and SharePoint entry; (3) manages Learning Portal, roster management, course communications; and (4) supports customers with phone calls, emails, training request process consultation, and processes coaching requests/tracking.

Program Development Activity (CAJQC4). (1) manages classroom/web-based/blended program design and development, vendor/internal facilitator selections, programs curriculum planning/scheduling program administration process development; (2) markets and manages participant application/enrollment process, participant selection/notification, program communications, and monitors participant attendance/participation; (3) develops/distributes program information/materials to participants, coordinates with vendors/internal facilitators regarding program requirements, and opens/facilitates the program; (4) coordinates with the Developmental Assessment, Design, and Evaluation (DAD-E) to establish evaluation methodology, auditing program courses, collection of evaluation data, reviews performance of program elements to inform revisions; (5) establishes memorandums of understanding/agreements with local universities and other learning institutions; (6) recruits and consults with potential participants of external continuous learning programs; and (7) manages long term education process, New Employee Orientation, and mentoring and coaching programs.

Training Delivery Activity (CAJQC5). (1) manages classroom/web-based/blended curriculum, vendor/internal facilitator selections, curriculum/planning scheduling, program administration processes, determines courses that meet mandatory requirements, utilizes processes and requirements to provide continuing education credits to applicable courses; (2) manages all aspects of the biennial request for quote (RFQ) process to meet CDC training requirements, to include solicitation of proposals, vendor selection, and RFQ database maintenance, conducts market research to identify vendors that supply training via traditional and alternative platforms that meet CDC needs; (3) markets and manages participant enrollment process, determines audience types, program communications, and monitors participant attendance/participation; (4) develops/distributes course information/materials to participants, coordinates with vendors/internal facilitators to ensure facility access, opening/facilitating courses; (5) coordinates with DAD-E to establish evaluation methodology, auditing courses, collection of evaluation data, reviews performance of courses to curriculum revisions; (6) forms and manages advisory councils to support curricula development; and (7) provides consultation and assistance in selecting vendor-supplied training to meet identified training needs.

Workforce Relations Office (CAJQD). (1) provides leadership, technical assistance, guidance, and consultation on employee and labor relations, employee services and assistance, work-life programs, performance management, and incentive awards; (2) develops and administers labor-management and employee relations program including: disciplinary actions, grievances and appeals, labor negotiations, collective bargaining, management representation before third parties, and partnership activities; (3) serves as liaison with the Office of Safety, Security and Asset Management (OSSAM) and other staff for personnel matters relating to substance abuse and other employee assistance programs; (4) plans, directs, coordinates, and conducts contract negotiations on behalf of agency management with labor organizations holding exclusive recognition; (5) represents management in third party proceedings involving labor and employee relations issues; (6) serves as the authority to ensure validity, consistency, and legality of employee relations matters concerning grievances (both negotiated and agency procedures), disciplinary actions, adverse actions, and resultant third party hearings; (7) plans and coordinates all programmatic activities to include preparation of disciplinary and adverse action letters and all final agency decisions in grievances and appeals; (8) provides technical advice, consultation, and training on matters of employee conduct and performance; (9) facilitates the development and implementation of an agency-wide strategic approach to monitoring, evaluating, aligning, and improving performance management policies and practices for all CDC performance management systems (Title 5, Title 38 Hybrid, Title 42, Senior Executive Service (SES), Senior Biomedical Research Service (SBRS), and the Commissioned Officer Effectiveness Report (COER); and (10) coordinates performance management, strategic rewards and recognition programs and systems.

Office of the Director (CAJQD1). (1) provides leadership and overall direction for the Workforce Relations Office (WRO); (2) develops goals and objectives, and provides leadership, policy formation, oversight, and guidance in program planning and development; (3) plans, coordinates, and develops strategic plans for the WRO; (4) coordinates all program reviews; (5) provides technical assistance and consultation to the activities within the WRO; (6) coordinates, develops, and monitors implementation of program initiatives; (7) develops and administers labor-management program including: labor negotiations, collective bargaining, management representation before third parties, and partnership activities; (8) plans, directs, coordinates, and conducts contract negotiations on behalf of agency management with labor organizations holding exclusive recognition; and (9) represents management in third party proceedings involving labor relations issues.

Employee and Labor Relations Activity (CAJQD2). (1) provides leadership, technical assistance, guidance, and consultation on employee relations; (2) develops and administers the employee relations program including: disciplinary actions and grievances and appeals; (3) serves as liaison with OSSAM and other staff for personnel matters relating to substance abuse and other employee assistance programs; (4) serves as the authority to ensure validity, consistency, and legality of employee relations matters concerning grievances (both negotiated and agency procedures), disciplinary actions, adverse actions, and resultant third party hearings; (5) plans and coordinates all programmatic activities to include preparation of disciplinary and adverse action letters and all final agency decisions in grievances and appeals; (6) provides technical advice, consultation, and training on matters of employee conduct and performance; (7) provides consultation, guidance, and technical advice to human resources specialists, managers, and employees on employee relations matters; (8) provides human resources services and assistance on advance leave; (9) manages and provides advice and assistance in the processing of the Voluntary Leave Donation Program; and (10) provides guidance on the Family Medical Leave Act (FMLA).

Performance Management, Strategic Rewards, Recognitions, and Worklife Activity (CAJQD4). (1) facilitates the development and implementation of an agency-wide strategic approach to monitoring, evaluating, aligning, and improving performance management policies and practices for all performance management systems (Title 5, Title 38 Hybrid, Title 42, SES, SBRS, and the COER); (2) coordinates performance management, strategic rewards and recognition programs and systems; (3) administers and manages the Worklife Program, lactation support, transportation subsidy, child care centers; and (4) administers the telework programs to include medical telework.

Client Services Office (CAJQE). (1) serves as the primary contact for management and employees in obtaining the full range of personnel assistance and management services for civil service personnel; (2) provides leadership, technical assistance, guidance, and consultation in human resource utilization, position management, classification and pay administration, recruitment, staffing, placement, reorganizations, program evaluation, and personnel records and files management; (3) liaises with HHS and OPM in the area of human resources management; (4) provides leadership in identifying the recruiting needs, and assesses, analyzes, and assists programs in developing and executing short- and long-range hiring plans to meet these needs; (5) provides guidance to organizations in the development of staffing plans and job analyses, evaluating/classifying position descriptions, conducting position management studies, and responding to desk audit requests; (6) processes personnel actions by determining position classification, issuing vacancy announcements, assisting in development of selection criteria, conducting examining under delegated examining authority, conducting candidate rating and ranking under CDC Merit Promotion Plan, making qualification determinations, determining pay, conducting reductions-in-force, effecting appointments and processing other actions; (7) codes and finalizes all personnel actions in the automated personnel data system, personnel action processing, data quality control/assessment, and files/records management; (8) plans, develops, implements, and evaluates systems to ensure consistently high-quality human resources services; (9) establishes objectives, standards, and internal controls; (10) evaluates, analyzes, and makes recommendations to improve personnel authorities, policies, systems, operations, and procedures; (11) manages various staffing programs such as the CDC summer program, Priority Placement Program, Priority Consideration Program, the Interagency Career Transition Assistance Program, and the Career Transition Assistance Program and other special emphasis programs; (12) provides consultation, guidance, and technical advice on recruitment and special emphasis policies, practices, and procedures, including search committees, strategizes on the best approach to recruitment at specific events, and designs and develops recruitment materials for events; (13) establishes and maintains personnel records, files, and controls; (14) establishes and maintains the official personnel files system and administers personnel records storage and disposal program; (15) collaborates with Personnel Security in initiating suitability background checks and fingerprints for all personnel; (16) responds to employment verification inquiries; and (17) administers the Special Emphasis Programs and Student Intern/Fellowship Programs.

Office of the Director (CAJQE1). (1) provides leadership and overall direction for the Client Services Office (CSO); (2) develops goals and objectives, and provides leadership, policy formation, oversight, and guidance in program planning and development; (3) plans, coordinates, and develops strategic plans for CSO; (4) coordinates all program reviews; (5) provides technical assistance and consultation to the Activities within CSO; and (6) coordinates, develops, and monitors implementation of program initiatives.

Customer Staffing Activity 1 (CAJQE2). (1) provides leadership in identifying recruiting needs, and assesses, analyzes, and assists CDC programs in developing and executing short- and long-range hiring plans to meet these needs; (2) provides guidance in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high quality human resources services; (5) establishes objectives, standards, and internal controls; (6) evaluates, analyzes, and makes recommendations to improve personnel authorities, policies, systems, operations, and procedures; (7) provides consultation, guidance, and technical advice on recruitment policies, practices, and procedures, including search committees, strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Customer Staffing Activity 2 (CAJQE3). (1) provides leadership in identifying recruiting needs, and assesses, analyzes, and assists programs in developing and executing short- and long-range hiring plans to meet these needs; (2) provides guidance to organizations in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high-quality human resources services; (5) establishes objectives, standards, and internal controls; (6) evaluates, analyzes, and makes recommendations to improve personnel authorities, policies, systems, operations, and procedures; (7) provides consultation, guidance, and technical advice on recruitment policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Classification and Advisory Activity (CAJQE5). (1) provides guidance to organizations in the development of staffing plans and job analyses, evaluating/classifying position descriptions, conducting position management studies, and responding to desk audit requests; (2) provides leadership, technical assistance, guidance, and consultation in human resource utilization, position management, classification and pay administration; (3) provides leadership in identifying classification and position management needs; (4) provides guidance to CDC organizations in the development, evaluation/classification of position descriptions; (5) conducts position management studies and responds to desk audit requests; (6) reviews reorganization proposals and provides advice on proposed staffing plans and organizational structures; (7) plans, develops, implements, and evaluates systems to ensure consistently high-quality human resources services; (8) establishes objectives, standards, and internal controls; and (9) evaluates, analyzes, and makes recommendations to improve personnel authorities, policies, systems, operations, and procedures.

Technical Services Activity (CAJQE6). (1) processes personnel actions by determining pay, conducting reductions-in-force, effecting appointments, and processing other actions; (2) codes and finalizes all personnel actions in the automated personnel data system, personnel action processing, data quality control/assessment, and files/records management; (3) establishes objectives, standards, and internal controls; (4) evaluates, analyzes, and makes recommendations to improve personnel authorities, policies, systems, operations, and procedures; (5) establishes and maintains personnel records, files, and controls; (6) establishes and maintains the official personnel files system and administers personnel records storage and disposal program; (7) collaborates with Personnel Security in initiating suitability background checks and fingerprints for all personnel; and (8) responds to employment verification inquiries.

Customer Staffing Activity 4 (CAJQE7). (1) provides leadership in identifying the international workforce recruiting needs, and assesses, analyzes, and assists programs in developing and executing short- and long-range hiring plans to meet these needs; (2) provides guidance in the development of staffing plans and job analyses; (3) processes personnel actions by issuing vacancy announcements, assisting in development of selection criteria, conducting examinations under delegated examining authority, conducting candidate rating and ranking under CDC Merit Promotion Plan, making qualification determinations, determining pay, conducting reductions-in-force, effecting appointments and processing other actions; (4) plans, develops, implements, and evaluates systems to ensure consistently high-quality human resources services; (5) establishes objectives, standards, and internal controls; (6) evaluates, analyzes, and makes recommendations to improve personnel authorities, policies, systems, operations, and procedures; (7) provides consultation, guidance, and technical advice on recruitment policies, practices, and procedures, including search committees; strategizes on the best approach to recruitment at specific events, and designs and develops recruitment materials for events; (8) provides leadership, technical assistance, guidance, and consultation in human resource utilization, position management, classification and pay administration; and (9) codes and finalizes all personnel actions in the automated personnel data system and ensures data quality control/assessment, and files/records management.

Special Hiring Programs Activity (CAJQEB). (1) serves as the primary contact for management and employees in obtaining the full range of personnel assistance and management services for excepted service personnel; (2) manages various staffing programs such as the CDC summer program, Priority Placement Program, Priority Consideration Program, the Interagency Career Transition Assistance Program, and the Career Transition Assistance Program, Pathways Program, Public Health Associates Program, and other special emphasis programs; (3) provides consultation, guidance, and technical advice on recruitment and special emphasis policies, practices, and procedures, including search committees, strategizes on the best approach to recruitment at specific events, and designs and develops recruitment materials for events; (4) establishes and maintains personnel records, files, and controls; (5) administers the Special Emphasis Program and Student Intern/Fellowship Program; (6) plans, develops, implements, and evaluates systems to ensure consistently high quality human resources services; (7) establishes objectives, standards, and internal controls; (8) evaluates, analyzes, and makes recommendations to improve personnel authorities, policies, systems, operations, and procedures; and (9) process the agency's Intergovernmental Personnel Act Employees.

Hiring Policy and Quality Review Activity (CAJQEC). (1) provides oversight, guidance and support for policy and human resources accountability activities; provides leadership, technical assistance, guidance, and consultation in human resource utilization, position management, classification and pay administration, recruitment, staffing, placement, reorganizations, program evaluation, and personnel records and files management; (2) revises, updates, and monitors the implementation of human resources management policies and operational procedures as directed by OPM, HHS, CDC to ensure consistent application; (3) provides issues management and resolution support to OHR including internal and external customers; (4) provides leadership, oversight, guidance and support for policy activities supporting OHR; (5) serves as the focal point for the analysis, technical review of non-scientific policy documents that require approval/signature from the OHR Director; (6) responds to and coordinates requests for issues management information to ensure efficient responses to the OHR director; (7) operates as an internal audit function to maintain the accountability of HR areas and safeguards legal and regulatory requirements; (8) ensures HR goals and programs are aligned with and support the agency's mission; (9) ensures HR management office is guided by a data driven, and results-oriented processes; (10) ensures managers and HR practitioners are held accountable for their HR decisions; (11) assesses the effectiveness and efficiency of the HR function; (12) ensures HR programs and policies adhere to merit system principles and other pertinent laws and regulations; (13) conducts recurring delegated examining audits and periodic HR management reviews to verify and validate the level of compliance and performance; and (14) implements a plan for addressing issues or problems identified during accountability audits and related activities.

Executive and Scientific Resources Office (CAJQG). (1) provides leadership, technical assistance, guidance, and consultation in the administration of policies and procedures for appointment of individuals through the SBRS, SES, distinguished consultants, experts, consultants, and fellows under Title 42 appointment authorities; (2) provides advisory services and technical assistance on pay and compensation guidelines in accordance with OPM rules and regulations, HHS and CDC established pay and compensation recommendation policies, and procedures; (3) provides expert HR advisory services and technical assistance support to the performance review boards and compensation committees; (4) reviews actions for statutory and regulatory compliance; (5) manages strategic recruitment, relocation, and retention incentives to facilitate attraction of a quality, diverse workforce to ensure accomplishment of the agency's mission; (6) provides performance management training for all SES and Title 42 executives with emphasis on performance systems, timelines, supervisory and employee responsibilities; (7) provides guidance on establishing performance plans, conducting mid-year reviews, and conducting final performance rating discussions and closing performance plans; (8) develops and maintains a standard HHS-wide performance management system and forms for executives; (9) conducts reviews of SES performance plans and appraisals and provide feedback; (10) prepares and submits SES performance system certification request to OPM and Office of Management and Budget (OMB); (11) processes performance awards and performance-based pay adjustments; (12) provides advice, assistance, templates and training workshops on performance award and Presidential Rank Award requirements; (13) manages the HHS Executive Development Program, including developmental activities, rotational assignments, and the Candidate Development Program; (14) advises on development of executive succession planning activities; and (15) provides program guidance, administration, and oversight of immigration and visa programs.

Office of the Director (CAJQG1). (1) provides leadership and overall direction for the Executive and Scientific Resources Office (ESRO); (2) develops goals and objectives, and provides leadership, policy formation, oversight, and guidance in program planning and development; (3) plans, coordinates, and develops strategic plans for the ESRO; (4) coordinates all program reviews; (5) provides technical assistance and consultation to the activities within ESRO; and (6) coordinates, develops, and monitors implementation of program initiatives.

Executive and Scientific Compensation and Performance Activity (CAJQG2).

(1) Provides advisory services, and technical assistance on pay and compensation guidelines in accordance with OPM rules and regulations, HHS and CDC established pay and compensation recommendation policies, and procedures; (2) provides expert HR advisory services and technical assistance support to the CDC performance review boards and compensation committees; (3) reviews actions for statutory and regulatory compliance; (4) manages strategic recruitment, relocation, and retention incentives to facilitate attraction of a quality, diverse workforce to ensure accomplishment of the agency's mission; (5) provides performance management training for all SES and Title 42 executives with emphasis on performance systems, timelines, supervisory and employee responsibilities; (6) provides guidance on establishing performance plans, conducting mid-year reviews, and conducting final performance rating discussions and closing performance plans; (7) develops and maintains a standard Department-wide performance management system and forms for executives; (8) conducts reviews of SES performance plans and appraisals and provides feedback; (9) prepares and submits SES performance system certification request to OPM and OMB; (10) processes performance awards and performance-based pay adjustments; (11) provides advice, assistance, templates and training workshops on performance award and Presidential Rank Award requirements; (12) manages the HHS Executive Development Program, including developmental activities, rotational assignments, and the Candidate Development Program; and (13) advises on development of executive succession planning activities.

Executive and Scientific Staffing Activity (CAJQG3). (1) provides leadership, technical assistance, guidance, and consultation in the administration of policies and procedures for the appointment of individuals through the distinguished consultants, experts, consultants, and fellows under Title 42 appointment authorities; and (2) administers and manages the Guest Researcher and Oak Ridge Institute for Science and Education Program.

Immigration Activity (CAJQG4). (1) provides technical guidance and visa assistance for employment-based, CDC- sponsored visas; (2) administers and manages the Exchange Visitor Program; (3) works closely with the U.S. Office of Exchange and Cultural Affairs, U.S. Citizenship and Immigration Services (USCIS), U.S. Department of Homeland Security, U.S. Department of State, Office of the Secretary/HHS, and U.S. Department of Labor to facilitate immigration procedures; (4) reviews, processes and files H-1B, O-1, and Green Card (I-140) Petitions with USCIS; (5) provides advisory services and guidance on employment-based green card petitions in the Alien of Extraordinary Ability category; (6) issues Certificate of Eligibility for J-1 Exchange Visitor Status through the Student and Exchange Visitor Information System to non-U.S. citizens seeking CDC J-1 visa sponsorship; (7) coordinates and provides consultations and guidance on Interested Government Agency Waivers; (8) provides immigration training workshops to administrative staff; and (9) determines the appointment mechanism, legal status, and work authorizations for non-U.S. citizens through the Visitors Management System.

Enterprise and Integration Tiers Management Office (CAJQH). (1) provides leadership, oversight, guidance and support for policy, human capital accountability, communication, and customer service supporting OHR; (2) develops, administers and monitors the implementation of human capital and human resources management policies and operational procedures as directed by OPM, HHS, CDC or other pertinent Federal agencies to ensure consistent application; (3) liaise with HHS and OPM on HR management, policy, compliance and execution of the Human Capital Assessment and Accountability Framework; (4) conducts organizational assessments to determine compliance with human capital policies, guidance, regulatory and statutory requirements of Federal human capital and resource management programs and initiatives; and (5) provides issues management and resolution support to OHR including internal and external customers.

Office of the Director (CAJQH1). (1) provides leadership and overall direction for the Enterprise and Integration Tiers Management Office, (2) provides leadership, oversight, guidance and support for policy, communications, human capital accountability, tiers management across the lines of business and offices/activities, communication, and customer service supporting OHR; (3) develops goals and objectives, and provides leadership, policy formation, communications, oversight, and guidance in special projects, program planning and development; (4) plans, coordinates, and develops strategic plans for the Office; (5) coordinates all program reviews; (6) provides technical assistance and consultation to the offices and activities within OHR; (7) coordinates, develops, and monitors implementation of program initiatives and activities; (8) oversees the service delivery model; (9) liaises with HHS and OPM on HR management, policy, compliance and execution of the Human Capital Assessment and Accountability Framework; (10) conducts organizational assessments to determine compliance with human capital policies, guidance, regulatory and statutory requirements of Federal human capital and resource management programs and initiatives; (11) provides issues management and resolution support to OHR including internal and external customers; and (12) provides oversight of shared services approaches focused on achieving desired economies of scale, enhance consistency or standardization across the organization, improve quality, leverage technology investments, manage labor costs across OHR and provide greater value to the business.

Tiers Management Activity (CAJQH2). (1) provides leadership, oversight, integrated and shared services within OHR, and guidance and support for policy activities supporting OHR; (2) develops, administers and monitors the implementation of human capital and human resources management policies and operational procedures as directed by OPM, HHS, CDC or other pertinent Federal agencies to ensure consistent application; (3) serves as the focal point for the analysis, development, technical review and clearance of controlled correspondence and non-scientific policy documents that require approval/signature from the OHR Director or other senior leadership; (4) responds to and coordinates requests from the OHR/OD for issues management information to ensure efficient responses to the Director's priority issues; (5) operates as an internal audit function to maintain the operational integrity of HR and human capital areas and safeguards legal and regulatory requirements; (6) ensures that human capital goals and programs are aligned with and support the agency's mission; (7) ensures that human capital planning is guided by a data driven, results-oriented process toward goal achievement; (8) ensures that managers and HR practitioners are held accountable for their human capital decisions; (9) assesses the effectiveness and efficiency of the HR function; (10) ensures human capital programs and policies adhere to merit system principles and other pertinent laws and regulations; (11) conducts recurring delegated examining audits and periodic human capital management reviews to verify and validate the level of compliance and performance; (12) implements a plan for addressing issues or problems identified during accountability audits and related activities; (13) provides technical assistance, guidance, and consultation on employee and labor relations, employee services, pay, leave and benefits administration, staffing and recruitment, position classification; (14) provides issues management and resolution support to OHR including internal and external customers; (15) manages workload assessment and customer based training; (16) monitors customer satisfaction, (17) tracks and assess key performance indicators and other reporting requirements; (18) oversees, administers and maintains the enterprise -wide customer service help desk; (19) provides direct services spanning the full spectrum of personnel programs; (20) operates Employee Resource Center providing routine, repeatable and transactional support through knowledge management, customer contact, in a responsive, interactive manner; (21) serves as the end-to-end process owner; (22) collaborates with Tier 0-3 for all personnel programs executed by CDC; and (23) develops, administers, and monitors the implementation of human capital and human resources management policies and operational procedures as directed by OPM, HHS, CDC or other pertinent Federal agencies to ensure consistent application.

Communication Activity (CAJQH4). (1) provides leadership, oversight, guidance and support for communication activities supporting OHR; (2) responds to and coordinates requests from the OHR/OD for issues management information to ensure efficient responses to the Director's priority issues; (3) provides and manages a wide range of communication services in support of OHR; (4) facilitates open and transparent employee communication; (5) develops and implements internal and external public relations strategies to communicate upward and outward to customers and partners; and (6) utilizes multiple channels and methods to communicate and disseminate HR policies, announcements, procedures, information, and other relevant messages.

Data Analytics and Technology Office (CAJQJ). (1) serves as the liaison to OCIO and HHS in the development, maintenance, and support of Department-wide human resource information systems and applications; (2) support capital planning and investment control activities related to all developed human capital and human resources management systems and applications; (3) serves as liaison and provides support in the development and maintenance of HHS enterprise human resources systems; (4) supports periodic reporting requirements from CDC, HHS, OPM, and OMB; (5) oversees the HR information systems governance structure and change control board activities; (6) develops strategic plans for information technology and information systems required to support human capital and HR management information requirements; (7) coordinates HR information resource management activities with OCIO and related governance groups; (8) coordinates management information systems and analyses of data for improved utilization of resources; (9) provides business data strategy, data analytics, and reporting services; (10) performs analysis, forecasting, and modeling to interpret quantitative and qualitative data; (11) reports and evaluates organizational performance outcomes on key measures and metrics; (12) facilitates the administration, analysis and reporting of survey data; and (13) provides recommendations for business process reengineering efforts.

Administrative and Operations Management Office (CAJQK). (1) provides leadership, oversight, and guidance in the management and operations of OHR programs; (2) provides and oversees the delivery of OHR-wide administrative management and support services in the areas of fiscal management, personnel, travel, records management, internal controls, and other administrative services; (3) prepares annual budget formulation, budget justifications and execute the OHR budget; (4) coordinates OHR requirements relating to contracts, grants, cooperative agreements, and reimbursable agreements; (5) develops and implements administrative policies, procedures, and operations, as appropriate, for OHR, and prepares special reports and studies, as required, in the administrative management areas; (6) liaises with related staff offices and other officials; (7) oversees the HR governance structure and change control board activities; (8) manages the OHR working capital fund activities; oversee the development and updating of annual performance plans; (9) provides administrative oversight of the telework management system to ensure all applicable employees are on the appropriate agreement; (10) provides oversight and administration of the purchase card and procure goods and services in compliance with applicable laws and regulations; (11) serves as liaison with OCIO on the timekeeping responsibilities for OHR; (12) prepares and processes personnel actions for the organization; (13) maintains oversight and administration of Freedom of Information Act and litigation hold requests; and (14) provides management and oversight of the property management program.

Ethics and Integrity Office (CAJQL). (1) provides leadership, oversight, guidance, services and support, counseling, education and awareness and training for federally-mandated ethics requirements and activities supporting HHS and CDC; (2) develops, administers, and monitors the implementation of ethics-related programs, policies, and operational procedures as directed by Office of Government Ethics (OGE), HHS, CDC, and other applicable Federal entities to ensure compliance and consistent application across the agency; (3) liaises with HHS and OGE on ethical standards and expectations, ethics policy, compliance with Federal ethical guidelines, and their implementation at CDC; (4) conducts routine and periodic assessments to determine compliance with Federal requirements in support of the standards of ethical conduct, applicable regulations, policies, guidance, statutory requirements for ethics programs and initiatives; (5) provides procedures to capture and address ethics-related issues and resolution in support of the CDC workforce and applicable stakeholders; (6) plans, coordinates, and develops strategic plans for the Ethics and Integrity Office (EIO); (7) provides guidance and oversight for all program activities; (8) provides technical management and oversight for the activities within EIO; (9) provides management and oversight of ethics information systems, tools, and resources; (10) provides and oversees the delivery of agency-wide communications applicable to ethics-related training, services, and support activities; (11) monitors and manages the receipt, distribution, and accountability of organizational and individual ethics actions and activities; (12) captures, manages, and develops actionable ethics data reports to inform management decisions; (13) manages and responds to Federal and agency-related information requests applicable to CDC stakeholders; (14) provides and manages applicable files maintenance requirement for digital and physical environments; (15) prepares and provides special reports and information, routine and ad hoc, in the EIO functional management areas; (16) receives, reviews, and provides ethics counseling on financial disclosure actions to eliminate or mitigate conflicts of interest; (17) provides federally-mandated review, consultation, and recommendation on employee participation in activities in with outside organizations; (18) provides agency-mandated review, consultation, and recommendation on employee participation in official duties with external organizations on behalf of the agency; and (19) conducts a review and provides recommendations on compliance with statutes and regulations applicable to creative research relationships involving academic institutions, public health manufacturers, and private industry.

Commissioned Corps Liaison Office (CAJQM). (1) serves as the liaison office for leadership to Commissioned Corps Headquarters (CCHQ) in the Office of the Surgeon General and is responsible for the administration of Public Health Service (PHS) officers stationed at CDC and ATSDR; (2) serves as the primary contact for management and officers in obtaining a full range of advisory services and personnel assistance related to the management of PHS officers; (3) provides leadership, technical assistance, guidance, and consultation for benefits, entitlements, career management, retirement counseling, promotion counseling, adverse actions, casualty assistance, special pays, flag positions, international assignments, Epidemic Intelligence Service and Laboratory Leadership Service officers, interns, Long-term Training, and personnel actions; (4) advises on Commissioned Corps PHS policies and systems such as salary/benefits, performance management, assignments, protocol, health benefits, training, permanent change of station, relocation, career management, standards of service, readiness, deployments, and retirement; (5) provides PHS-related training to managers, supervisors, and PHS officers; (6) leads recruitment and retention efforts for staffing positions with PHS officers and champions diversity and inclusion efforts; (7) manages and administers the Commissioned Corps promotion and awards programs; (8) collaborates with CCHQ on deployments, manages agency deployments, oversees the Emergency Operations Center (EOC) Commissioned Corps deployment desk during activation of the EOC; and (9) plans, directs, and manages the Department of Defense's Eligibility Enrollment Report System identification card program for all active duty officers, retirees, and eligible dependents.

Benefits and Employee Services Office (CAJQN). (1) provides leadership, technical assistance, guidance, and consultation on work-life programs, pay, overseas allowances, retirement benefits, leave and benefits administration, on-the-job injuries and exposures to infectious diseases, debt complaints and other job-related issues; (2) coordinates and processes garnishment, child support, and other collection actions for employees; (3) provides technical advice, consultation, and training on matters of employee conduct and performance; (4) provides consultation, guidance, and technical advice to HR specialists, managers, and employees on the development, coordination and implementation of all payroll, benefits, retirement and worker's compensation initiatives; (5) provides personnel services relating to on-the-job injuries and exposures to infectious diseases; (6) facilitates the development and implementation of an agency-wide strategic approach to monitoring, evaluating, aligning, and improving benefits and employee services policies and practices; (7) provides HR services and assistance on domestic and international employee benefits, allowances and leave administration; (8) serves as liaison between CDC and the HHS payroll office resolving discrepancies with pay and leave; (9) administers the leave donor program and processes time and attendance amendments; (10) administers the Federal life and health insurance programs; (11) provides policy guidance and technical advice and assistance on retirement, the Thrift Savings Plan, health/life insurance, and savings bonds; (12) furnishes advice and assistance in the processing of Office of Workers' Compensation Program claims and the Voluntary Leave Donation Program; and (13) administers the Veteran's Leave Program and processes the leave in the payroll system and coordinates with Technical Service Activity to update employee's record.

Office of the Director (CAJQN1). (1) provides leadership and overall direction for the Benefits and Employee Services Office; (2) develops goals and objectives, and provides leadership, policy formation, oversight, and guidance in program planning and development; (3) plans, coordinates, and develops strategic plans for the Benefits and Employee Services Office (BESO); (4) coordinates all program reviews; (5) provides technical assistance and consultation to the activities within BESO; (6) provides help desk support for BESO; and (7) coordinates, develops, and monitors implementation of program initiatives.

Retirement and Benefits Services Activity (CAQJN2). (1) provides HR services and assistance on domestic and international employee benefits, overseas allowances, and leave administration; (2) serves as liaison between CDC and the HHS payroll office resolving discrepancies with pay and leave; (3) audits payroll-related discrepancies regarding leave programs and processes time and attendance amendments; (4) administers the Federal life and health insurance programs; and (5) provides policy guidance and technical advice and assistance on retirement, the Thrift Savings Plan, health/life insurance, and savings bonds.

Compensation and Leave Administration Activity (CAJQN3). (1) provides consultation, guidance, and technical advice to human resources specialists, managers, and employees on the development, coordination and implementation of all Work Life program initiatives; (2) provides personnel services relating to on-the-job injuries and exposures to infectious diseases; (3) provides HR services and assistance on domestic and international employee benefits, overseas allowances; (4) furnishes advice and assistance in the processing of Office of Workers' Compensation Program claims; (5) furnishes advice and assistance in the processing of the Voluntary Leave Donation Program; (6) administers Veterans Leave Program and coordinates with the Technical Services Activity for record update; and (7) provides guidance on the FMLA.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14693 Filed 7-11-23; 8:45 am]

BILLING CODE 4163-18-P